FEDERAL ELECTION COMMISSION

Sunshine Act Meetings

Federal Register CITATION OF PREVIOUS ANNOUNCEMENT: 84 FR 42916.

PREVIOUSLY ANNOUNCED TIME AND DATE OF THE MEETING: Thursday, August 22, 2019 at 10:00 a.m., 1050 First Street NE, Washington, DC (12th floor).

CHANGES IN THE MEETING:

The following matters will also be considered:

Notice of Availability for REG 2019-04 (Reporting Segregated Party Accounts)

Audit Division Recommendation Memorandum on the South Dakota Democratic Party (A17-21)

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2019-18145 Filed 8-19-19; 4:15 pm]

BILLING CODE 6715-01-P